INTERNATIONAL TRADE COMMISSION

[Investigation No. 731-TA-1214 (Final)]

Certain Steel Threaded Rod From Thailand

Determination

On the basis of the record ¹ developed in the subject investigation, the United States International Trade Commission (Commission) determines,² pursuant to section 735(b) of the Tariff Act of 1930 (19 U.S.C. 1673d(b)) (the Act), that an industry in the United States is not materially injured or threatened with material injury, and the establishment of an industry in the United States is not materially retarded by reason of imports from Thailand of certain steel threaded rod, provided for primarily in subheading 7318.15.50 of the Harmonized Tariff Schedule of the United States, that have been found by the Department of Commerce (Commerce) to be sold in the United States at less than fair value (LTFV).

¹ The record is defined in sec. 207.2(f) of the Commission's Rules of Practice and Procedure (19 CFR 207.2(f)).

² Commissioner Rhonda Schmidtlein was not a member of the Commission at the time of the vote.

Background

The Commission instituted this investigation effective June 27, 2013, following receipt of a petition filed with the Commission and Commerce by All America Threaded Products Inc., Denver, Colorado; Bay Standard Manufacturing Inc., Brentwood, California; and Vulcan Threaded Products Inc., Pelham, Alabama. The final phase of the investigation was scheduled by the Commission following notification of a preliminary determination by Commerce that imports of certain steel threaded rod from Thailand were being sold at LTFV within the meaning of section 733(b) of the Act (19 U.S.C. 1673b(b)). Notice of the scheduling of the final phase of the Commission's investigation and of a public hearing to be held in connection therewith was given by posting copies of the notice in the Office of the Secretary, U.S. International Trade Commission, Washington, DC, and by publishing the notice in the Federal Register of January 17, 2014 (79 FR 3245). The hearing was held in Washington, DC, on March 20, 2014, and all persons who requested the opportunity were permitted to appear in person or by counsel.

The Commission completed and filed its determination in this investigation on May 1, 2014. The views of the Commission are contained in USITC Publication 4462 (May 2014), entitled Steel Threaded Rod from Thailand: Investigation No. 731-TA-1214 (Final).

By order of the Commission.
Issued: May 1, 2014.
Lisa R. Barton,
Secretary to the Commission.

[FR Doc. 2014-10398 Filed 5-6-14; 8:45 am]

BILLING CODE 7020-02-P